DEPARTMENT OF THE INTERIOR

Bureau of Ocean Energy Management

[Docket No. BOEM-2014-0010; MMAA104000]

Environmental Assessment for Potential Interim Policy Lease Issuance and Site Assessment Activities on the Atlantic Outer Continental Shelf (OCS) Offshore Georgia

AGENCY: Bureau of Ocean Energy Management, Interior.

ACTION: Notice of the Availability of an Environmental Assessment.

SUMMARY: The Bureau of Ocean Energy Management (BOEM) has prepared an Environmental Assessment (EA) considering the reasonably foreseeable environmental and socioeconomic impacts of issuing an Interim Policy lease and subsequent site characterization activities (geophysical, geotechnical, archaeological, and biological surveys) in Official Protraction Diagram NH 17-02 Blocks 6074, 6126, and 6174, offshore Georgia. The EA also considers the reasonably foreseeable impacts associated with the approval of site assessment activities (including the installation and operation of a meteorological tower and/or buoys) on the lease that may be issued. The purpose of this notice is to inform the public of the availability of the EA for review, to solicit public comments on the EA, and to seek public comment and input under Section 106 of the National Historic Preservation Act (16 U.S.C. 470f), and its implementing regulations (36 CFR part 800).

The EA can be found online at http://www.boem.gov/Renewable-Energy-Program/State-Activities/Georgia.aspx.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On November 6, 2007, the Minerals Management Service (MMS), now BOEM, announced an Interim Policy for authorizing the issuance of leases for the installation of offshore data collection and technology testing facilities on the OCS (72 FR 62673). An applicant has submitted a lease proposal to BOEM pursuant to the Interim Policy and, thus, has initiated the need for an EA.

On July 23, 2008, Southern Company nominated three OCS blocks, approximately 3 to 11 nautical miles off the coast of Tybee Island, Georgia. On April 7, 2011, Southern Company submitted an application to lease the area identified as Brunswick NH 17-02 OCS Blocks 6074, 6174, and 6126. The proposed lease area covers about 70 square kilometers (17,280 acres) of seafloor and ranges from a depth of 12 meters (m) in Block 6074 to 20 m in the eastern half of Block 6126. Southern Company submitted an amended project application in May 2012 and provided additional information in October 2012. The amendment describes additional data collection and technology testing activities to be conducted on the proposed lease. Southern Company intends to deploy a meteorological tower and/or meteorological buoys that will measure wind speed, direction and shear, and potentially collect other environmental data types during the five year lease term.

On December 14, 2012, BOEM published a Notice of Intent (NOI) to prepare an EA that requested public comments on alternatives for consideration in the EA as well as identification of important environmental issues associated with issuing a lease for an offshore data collection facility and related activities (77 FR 74512). BOEM considered these public comments in drafting the alternatives and assessing the reasonably foreseeable environmental impacts associated with each. Comments received in response to the NOI can be viewed at: http://www.regulations.gov by searching for Docket ID BOEM-2012-0074.

BOEM is seeking public input on the EA, including comments on the completeness and adequacy of the environmental analysis, and on the measures and operating conditions in the EA designed to reduce or eliminate potential environmental impacts. BOEM will consider public comments on the EA in determining whether to issue a Finding of No Significant Impact (FONSI) or conduct additional analysis under the National Environmental Policy Act (NEPA). BOEM will conduct public information sessions to explain the proposed activities and provide additional opportunities for public input on the EA. Specific times and venues will be posted on the BOEM Web site at: http://www.boem.gov/State-Activities-Georgia/.

Additionally, as part of its compliance with Section 106 of the National Historic Preservation Act (16 U.S.C. 470f), and its implementing regulations (36 CFR 800), BOEM is seeking public comment and input regarding the identification of historic properties or potential effects to historic properties from leasing and site assessment activities in the proposed lease area.

Comments

Federal, state, and local government agencies, tribal governments, and other interested parties are requested to submit their written comments on the EA in one of the following ways:

1. Electronically: http://www.regulations.gov. In the entry entitled “Enter Keyword or ID,” enter BOEM-2014-0010, then click “search.” Follow the instructions to submit public comments and view supporting and related materials available for this document.

2. In written form, delivered by hand or by mail, enclosed in an envelope labeled “Comments on Environmental Assessment for Potential Interim Policy Lease Issuance and Site Assessment Activities on the Atlantic Outer Continental Shelf (OCS) Offshore Georgia” to: Program Manager, Office of Renewable Energy Programs, Bureau of Ocean Energy Management, 381 Elden Street, HM 1328, Herndon, Virginia 20170-4817.

Comments must be received or postmarked no later than May 2, 2014. All written comments received or postmarked during the comment period will be made available to the public.

Authority: This Notice of the Availability (NOA) of an EA is published pursuant to 43 CFR 46.305.

Dated: March 27, 2014.
Tommy P. Beaudreau,
Director, Bureau of Ocean Energy Management.

[FR Doc. 2014-07376 Filed 4-1-14; 8:45 am]

BILLING CODE 4310-MR-P